DEPARTMENT OF HOMELAND SECURITY

Coast Guard

46 CFR Part 11

[Docket No. USCG-2015-0168]

Policy for Evaluating Sea Service Aboard Liftboats

AGENCY: Coast Guard, DHS.

ACTION: Notice of availability.

SUMMARY: The Coast Guard announces the availability of Office of Commercial Vessel Compliance (CVC) Policy Letter 14-03, Evaluating Sea Service Aboard Liftboats. This policy letter will provide guidance to mariners concerning endorsements to Merchant Mariner Credentials (MMC) for service on liftboats.

DATES: This policy letter is effective on April 6, 2015.

FOR FURTHER INFORMATION CONTACT: If you have questions about this notice of availability, call or email Luke B. Harden, Mariner Credentialing Program Policy Division (CG-CVC-4), U.S. Coast Guard; telephone 202-372-2357, or MMCPolicy@uscg.mil. If you have questions on viewing material in the docket, call Cheryl Collins, Program Manager, Docket Operations, telephone 202-366-9826.

SUPPLEMENTARY INFORMATION:

Viewing Documents

The policy letter discussed below is available and can be viewed by going to http://www.uscg.mil/nmc and clicking on “Regulations & Policy,” then click on “Policy Letters.”

Discussion

Liftboats spend significant periods elevated at work sites and are not underway at those times. The time a liftboat spends underway is generally limited to travelling to and from a job site, and may be a relatively small portion of the total time the liftboat is in operation. Because of these specialized operations, the Coast Guard considers liftboats to be unique vessels and has evaluated sea service on liftboats to determine its equivalency to traditional service.

This policy letter describes policy for the Coast Guards' evaluation of service obtained on liftboats used to qualify for national officer endorsements to an MMC.

Authority

This notice of availability is issued under the authority of 5 U.S.C. 552(a).

Dated: April 2, 2015.
J.C. Burton,
Captain, U.S. Coast Guard, Director, Inspection & Compliance.

[FR Doc. 2015-09052 Filed 4-20-15; 8:45 am]

BILLING CODE 9110-04-P